DEPARTMENT OF THE TREASURY

Office of the Comptroller of the Currency

12 CFR Part 30

[Docket ID OCC-2018-0028]

RIN 1557-AE51

OCC Guidelines Establishing Standards for Recovery Planning by Certain Large Insured National Banks, Insured Federal Savings Associations, and Insured Federal Branches; Technical Amendments; Correction

AGENCY: Office of the Comptroller of the Currency, Treasury.

ACTION: Proposed rulemaking; correction.

SUMMARY: This document corrects the SUPPLEMENTARY INFORMATION section to a proposed rule published in the Federal Register on September 19, 2018, regarding OCC's enforceable guidelines relating to recovery planning standards for insured national banks, insured federal savings associations, and insured federal branches (Guidelines). This document corrects two technical errors.

DATES: October 4, 2018.

ADDRESSES: 400 7th Street SW, Suite 3E-218, Washington, DC 20219.

FOR FURTHER INFORMATION CONTACT: Andra Shuster, Senior Counsel (202) 649-5490; or, for persons who are deaf or hard of hearing, TTY, (202) 649-5597.

SUPPLEMENTARY INFORMATION:

Correction

In the Federal Register of September 19, 2018, in FR Doc. 2018-20166, on page 47313, in the third column, remove “September 19, 2016” and add in its place “September 29, 2016”; and on page 47314, in the second column, remove “October 19, 2018” and add in its place “30 days from date of publication of the final guidelines in the Federal Register”.

Dated: September 28, 2018.
Bao Nguyen,
Acting Senior Deputy Comptroller and Chief Counsel.

[FR Doc. 2018-21638 Filed 10-3-18; 8:45 am]

BILLING CODE 4810-33-P